DEPARTMENT OF EDUCATION

[CFDA 84.186C]

Safe and Drug-Free Schools Programs for Native Hawaiians Grant Competition

AGENCY: Office of Safe and Drug-Free Schools, Department of Education.

ACTION: Notice inviting applications for new awards using fiscal year (FY) 2002 funds, final priority, definitions, and selection criteria.

Purpose of Program: The purpose of this program is to make financial assistance available to organizations primarily serving and representing Native Hawaiians to plan, conduct, and administer programs designed to prevent violence in and around schools and prevent the illegal use of alcohol, tobacco, and drugs.

Eligible Applicants: Organizations primarily serving and representing Native Hawaiians for the benefit of Native Hawaiian youth.

Applications Available: July 7, 2003.

Deadline for Transmittal of Applications: August 15, 2003.

Deadline for Intergovernmental Review: September 14, 2003.

Estimated Available Funds: $944,000.

Estimated Number of Awards: 1 to 3.

Estimated Size of Awards: $314,666-$944,000 (per project year).

Average Size of Awards: $472,000.

Note: The Department is not bound by any estimates in this notice.

Project Period: Projects will be funded for one year, with options for four additional years contingent upon substantial progress.

Applicable Regulations: (a) The Education Department General Administrative Regulations (EDGAR) in 34 CFR parts 74, 75, 77, 79, 80, 81, 82, 85, 86, 97, 98, and 99; and (b) the final priority, selection criteria and definition for this grant competition published in this notice.

Definition: For the purposes of this competition, the term “Native Hawaiian” means any individual any of whose ancestors were natives, prior to 1778, of the area that now comprises the State of Hawaii.

General: Contingent upon the availability of FY 2003 and FY 2004 funds, we may make additional awards under these appropriations from the rank-ordered list of unfunded applications from this competition.

Other Requirements

Principles of Effectiveness: Programs implemented with funds awarded under this competition must meet the requirements of the Principles of Effectiveness authorized in section 4115(a) of the Safe and Drug-Free Schools and Communities Act.

Participation by Private School Children and Teachers: Local educational agencies (LEAs) that receive a grant are required to provide for the equitable participation of eligible private school children and their teachers or other educational personnel. In order to ensure that grant program activities address the needs of private school children, timely and meaningful consultation with appropriate private school officials must occur during the design and development of the program. Administrative direction and control over grant funds must remain with the grantee.

Maintenance of Effort LEAs may receive a grant only if the State educational agency finds that the combined fiscal effort per student or the aggregate expenditures of the agency and the State with respect to the provision of free public education by the agency for the preceding fiscal year was not less than 90 percent of the combined effort or aggregate expenditures for the second preceding fiscal year.

Waiver of Proposed Rulemaking: In accordance with the Administrative Procedure Act (5 U.S.C. 553), the Department generally offers interested parties the opportunity to comment on proposed rules. Section 437(d)(1) of the General Education Provisions Act, however, exempts from this requirement rules that apply to the first competition under a new or substantially revised program. This is the first competition under the Safe and Drug-Free Schools Programs for Native Hawaiians under the ESEA as amended by the No Child Left Behind Act of 2001.

Absolute Priority: Under 34 CFR 75.105(c)(3), we will consider only applications that meet the following absolute priority: Projects implemented by eligible organizations primarily serving and representing Native Hawaiians, for the benefit of Native Hawaiians, to plan, conduct, and administer programs that (1) prevent violence in and around schools; (2) prevent the illegal use of alcohol, tobacco, and drugs; (3) involve parents and communities; and (4) are coordinated with related Federal, State, school, and community efforts and resources to foster a safe and drug-free learning environment that supports student academic achievement.

Performance Measures: We require that applicants under this program establish performance measures for their projects. These performance measures must assess the effectiveness of the Safe and Drug-Free Schools Programs for Native Hawaiians, and include measures related to changes in student behaviors or risk or protective factors related to youth drug use or youth violence.

In applying the selection criteria that follow for “Quality of the project design” and “Quality of project evaluation,” we will take into consideration the extent to which the applicant demonstrates a strong capacity to (1) help achieve the performance targets identified by the applicant, and (2) provide reliable data to the Department on the project's impact as measured against the performance targets identified by the applicant.

Selection Criteria: We will use the following selection criteria to evaluate applications under this competition. The maximum score for all of these criteria is 100 points. The maximum score for each criterion is indicated in parenthesis.

(1) Need for project. (10 points)

In determining the need for the proposed project, we consider the following factor:

The extent to which specific gaps or weaknesses in services, infrastructure, or opportunities have been identified and will be addressed by the proposed project, including the nature and magnitude of those gaps or weaknesses.

(2) Significance of the project. (10 points)

In determining the significance of the proposed project, we consider the following factor:

The extent to which the proposed project is likely to build local capacity to provide, improve, or expand services that address the needs of the target population.

(3) Quality of the project design. (45 points)

In determining the quality of the design of the proposed project, we consider following factors:

(a) The extent to which the goals, objectives, and outcomes to be achieved by the proposed project are clearly specified and measurable. (10 points)

(b) The extent to which the design of the proposed project is appropriate to, and will successfully address, the needs of the target population or other identified needs. (10 points)

(c) The extent to which the proposed project is designed to build capacity and yield results that will extend beyond the period of Federal financial assistance. (10 points)

(d) The extent to which the proposed project will establish linkages with other appropriate agencies and organizations providing services to the target population. (10 points)

(e) The extent to which the proposed project encourages parental involvement. (5 points)

Note: In applying the selection criteria for “Quality of the project design” we will take into consideration the extent to which the applicant demonstrates a strong capacity (1) to help achieve the performance targets identified by the applicant, and (2) to provide reliable data to the Department on the project's impact as measured against the performance targets identified by the applicant.

(4) Quality of project personnel. (15 points)

In determining the quality of project personnel, we consider the following factor:

(a) The qualifications, including relevant training and experience, of key project personnel. (10 points)

(b) The extent to which the applicant encourages applications for employment without regard to race, color, national origin, gender, age, or disability. (5 points)

(5) Quality of the project evaluation. (20 points)

In determining the quality of the evaluation, we consider the following factors:

(a) The extent to which the methods of evaluation are thorough, feasible, and appropriate to the goals, objectives, and outcomes of the proposed project. (10 points)

(b) The extent to which the methods of evaluation will provide performance feedback and permit periodic assessment of progress toward achieving intended outcomes. (5 points)

(c) The extent to which the methods of evaluation include the use of objective performance measures that are clearly related to the intended outcomes of the project and will produce quantitative and qualitative data to the extent possible. (5 points)

Note: In applying the selection criteria for “Quality of the project evaluation” we will take into consideration the extent to which the applicant demonstrates a strong capacity (1) to help achieve the performance targets identified by the applicant, and (2) to provide reliable data to the Department on the project's impact as measured against the performance targets identified by the applicant.

For Applications and Other Information Contact: David Quinlan, U.S. Department of Education, 400 Maryland Avenue, SW., Room 3E248, Washington, DC 20202-6450. Telephone: (202) 260-2658, email address: david.quinlan@ed.gov.

If you use a telecommunications device for the deaf (TDD), you may call the Federal Information Relay Service (FIRS) 1-888-877-8339.

Individuals with disabilities may obtain this document, or an application package in an alternative format (e.g., Braille, large print, audiotape, or computer diskette) on request to the contact person listed at the beginning of this section. However, the Department is not able to reproduce in an alternative format the standard forms included in the application package.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: In FY 2003, the U.S. Department of Education is continuing to expand its pilot project of electronic submission of applications to include additional formula grant programs, as well as discretionary grant competitions. The Safe and Drug-Free Schools Programs for Native Hawaiians is one of the programs included in the pilot project. If you are an applicant under this grant competition, you may submit your application to us in either electronic or paper format.

The pilot project involves the use of the Electronic Grant Application System (e-Application, formerly e-GAPS) portion of the Grant Administration and Payment System (GAPS). We invite your participation in this pilot project. We will continue to evaluate its success and solicit suggestions for improvement.

If you participate in this e-APPLICATION pilot, please note the following:

• Your participation is voluntary.

• You will not receive any additional point value or penalty because you submit a grant application in electronic of paper format.

• You can submit all documents electronically, including the Application for Federal Assistance (ED Form 424), Budget Information “ Non-Construction Programs, (ED Form 524), and all necessary assurances and certifications.

• Within three working days of submitting your electronic application, fax a signed copy of the Application for Federal Assistance (ED Form 424) to the Application Control Center following these steps:

1. Print ED Form 424 from the e-Application system.

2. Make sure that the applicant's Authorizing Representative signs this form.

3. Before faxing this form, submit your electronic application via the e-Application system. You will receive an automatic acknowledgement, which will include a PR/Award number an identifying number unique to your application).

4. Place the PR/Award number in the upper right corner of ED Form 424.

5. Fax ED Form 424 to the Application Control Center within three business days of submitting your electronic application at (202) 260-1349.

6. We may request that you give us original signatures on all other forms at a later date.

7. Closing Date Extension in the case of System Unavailability: If you elect to participate in the e-Application pilot for the Safe and Drug-Free Schools Programs for Native Hawaiians and you are prevented from submitting your application on the closing date because the e-Application system is unavailable, we will grant you an extension of one business day in order to transmit your application via e-Application, by mail, or by hand delivery. For us to grant this extension:

(1) You must be a registered user of e-Applications, and have initiated an e-Application for this competition; and

(2)(a) The e-Application system must be unavailable for 60 minutes or more between the hours of 8:30 a.m. and 3:30 p.m. (ET), on the deadline date; or

(b) The e-Application system must be unavailable for any period of time during the last hour of operation (that is, for any period of time between 3:30 p.m. and 4:30 p.m. Eastern time on the deadline date.

The Department must acknowledge and confirm the period of unavailability before you will be granted an extension. To request this extension you must contact David Quinlan by e-mail at David.Quinlan@ed.gov or by telephone at (202) 260-2658 or the e-Grants help desk at (888) 336-8930.

You may access the electronic grant application for the Safe and Drug-Free Schools Programs for Native Hawaiians at: http://e-grants.ed.gov.

We have included additional information on the e-Application pilot project (see Parity Guidelines between paper and Electronic Applications) in the application package.

If you want to apply for a grant and be considered for funding, you must meet the deadline requirements included in this notice.

Electronic Access to This Document

You may view this document, as well as all other Department of Education documents published in the Federal Register, in text or Adobe Portable Document Format (PDF) on the Internet at the following site: www.ed.gov/legislation/FedRegister.

To use PDF, you must have Adobe Acrobat Reader, which is available free at this site. If you have questions about using PDF, call the U.S. Government Printing Office (GPO) toll free at (888) 293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 7117.

Dated: June 30, 2003.
Judge Eric Andell,
Deputy Under Secretary for Safe and Drug-Free Schools.

[FR Doc. 03-17002 Filed 7-3-03; 8:45 am]

BILLING CODE 4000-01-U